FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
019460NF | USCA Forwarding—Seabell Express Inc., 50 Harrison Street, Ste. 309, Hoboken, NJ 07030 | July 10, 2008.

Sandra L. Kusumoto,
Director, Bureau of Certification and Licensing.

[FR Doc. E8-24620 Filed 10-15-08; 8:45 am]

BILLING CODE 6730-01-P